DEPARTMENT OF HOMELAND SECURITY

Coast Guard

33 CFR Part 117

[USCG-2009-1107]

RIN 1625-AA09

Drawbridge Operation Regulations; Curtis Creek, Baltimore, MD

AGENCY: Coast Guard, DHS.

ACTION: Notice of temporary deviation from regulations.

SUMMARY: The Commander, Fifth Coast Guard District, has issued a temporary deviation from the regulations governing the operation of the I695 Bridge across Curtis Creek, mile 0.9, at Baltimore, MD. The deviation is necessary to facilitate mechanical repairs to the bridge. This temporary deviation allows the drawbridge to remain in the closed position during the deviation period.

DATES: This deviation is effective from 8 a.m. on January 9, 2010, to 8 p.m. on March 28, 2010.

ADDRESSES: Documents mentioned in this preamble as being available in the docket are part of docket USCG-2009-1107 and are available online by going to http://www.regulations.gov, inserting USCG-2009-1107 in the “Keyword” box, and then clicking “Search.” This material is also available for inspection or copying the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Bill H. Brazier, Bridge Management Specialist, Fifth Coast Guard District; telephone 757-398-6422, e-mail Bill.H.Brazier@uscg.mil. If you have questions on viewing the docket, call Renee V. Wright, Program Manager, Docket Operations, telephone (202) 366-9826.

SUPPLEMENTARY INFORMATION: The Maryland Transportation Authority, who owns and operates this double-leaf bascule drawbridge, has requested a temporary deviation from the current operating regulations set forth in 33 CFR 117.557 to facilitate mechanical repairs.

The I695 Bridge, a double-leaf bascule drawbridge, has a vertical clearance in the closed position to vessels of 58 feet, above mean high water. The draw of the bridge shall open on signal if at least a one-hour notice is given to the Maryland Transportation Authority in Baltimore, as required by 33 CFR 117.557.

Under this temporary deviation, the drawbridge will be maintained in the closed position to vessels to facilitate repairs to trunnion bearings on two separate closure periods. The first period will begin at 8 a.m. on January 9, 2010, until and including 8 p.m. on February 6, 2010; and the second period will start again at 8 a.m. on March 1, 2010, until and including 8 p.m. on March 28, 2010. Vessels may pass underneath the bridge while the bridge is in the closed position. There are no alternate routes for vessels transiting this section of Curtis Creek and the bridge will not be able to open in the event of an emergency.

Coast Guard vessels bound for the Coast Guard Yard at Curtis Bay, as well as a significant amount of commercial vessel traffic, must pass beneath the I695 Bridge. The Coast Guard has carefully coordinated the restrictions with the Yard and the commercial users of the waterway. Additionally, the Coast Guard will inform unexpected users of the waterway through our Local and Broadcast Notices to Mariners of the closure periods for the bridge so that vessels can arrange their transits to minimize any impact caused by the temporary deviation.

In accordance with 33 CFR 117.35(e), the drawbridge must return to its regular operating schedule immediately at the end of the designated time period. This deviation from the operating regulations is authorized under 33 CFR 117.35.

Dated: December 24, 2009.
Waverly W. Gregory, Jr.,
Chief, Bridge Administration Branch, Fifth Coast Guard District.

[FR Doc. 2010-437 Filed 1-12-10; 8:45 am]

BILLING CODE 9110-04-P